DEPARTMENT OF AGRICULTURE

Forest Service

Lake Tahoe Basin Federal Advisory Committee (LTFAC)

AGENCY: Forest Service, USDA.

ACTION: Notice of meeting.

SUMMARY: The Lake Tahoe Federal Advisory Committee will hold a meeting on October 21 or 24, 2011 at the Lake Tahoe Basin Management Unit, 35 College Drive, South Lake Tahoe, CA 96150. This Committee, established by the Secretary of Agriculture on December 15, 1998 (64 FR 2876), is chartered to provide advice to the Secretary on implementing the terms of the Federal Interagency Partnership on the Lake Tahoe Region and other matters raised by the Secretary.

DATES: The meeting will be held October 21 or 24, 2011, beginning at 9 a.m. and ending at 3 p.m. A final date can be confirmed at http://www.fs.fed.us/r5/ltbmu/local/ltfac.

ADDRESSES: Lake Tahoe Basin Management Unit, 35 College Drive, South Lake Tahoe, CA 96150.

For Further Information or to Request an Accommodation (One Week Prior to Meeting Date) Contact: Arla Hains, Lake Tahoe Basin Management Unit, Forest Service, 35 College Drive, South Lake Tahoe, CA 96150, (530) 543-2773.

SUPPLEMENTARY INFORMATION: Items to be covered on the agenda: (1) Facilitated workshop to discuss a strategic workplan for Fiscal Year 2012, and (2) public comment.

All Lake Tahoe Basin Federal Advisory Committee meetings are open to the public. Interested citizens are encouraged to attend at the above address. Issues may be brought to the attention of the Committee during the open public comment period at the meeting or by filing written statements with the secretary for the Committee before or after the meeting. Please refer any written comments to the Lake Tahoe Basin Management Unit at the contact address stated above.

Dated: September 27, 2011.
Jeff Marsolais,
Deputy Forest Supervisor.

[FR Doc. 2011-25361 Filed 9-30-11; 8:45 am]

BILLING CODE 3410-11-P